SOCIAL SECURITY ADMINISTRATION

[Docket No. SSA-2019-0019]

Privacy Act of 1974; System of Records

AGENCY: Office of Disability Determinations, Deputy Commissioner of Operations, Social Security Administration (SSA).

ACTION: Notice of a modified system of records.

SUMMARY: In accordance with the Privacy Act, we are issuing public notice of our intent to modify an existing system of records entitled, Completed Determination Record—Continuing Disability Determinations, (60-0050), last published in January 11, 2006. This notice publishes details of the proposed updates as set forth below under the caption SUPPLEMENTARY INFORMATION.

DATES: The system of records notice (SORN) is applicable upon its publication in today's Federal Register, with the exception of the routine use, which is effective May 28, 2019. We invite public comment on the routine use or other aspects of this SORN. In accordance with 5 U.S.C. 552a(e)(4) and (e)(11), the public is given a 30-day period in which to submit comments. Therefore, please submit any comments by May 28, 2019.

ADDRESSES: The public, Office of Management and Budget (OMB), and Congress may comment on this publication by writing to the Executive Director, Office of Privacy and Disclosure, Office of the General Counsel, Social Security Administration, Room G-401 West High Rise, 6401 Security Boulevard, Baltimore, Maryland 21235-6401 or through the Federal e-Rulemaking Portal at http://www.regulations.gov, please reference docket number SSA-2018-XXXX. All comments we receive will be available for public inspection at the above address and we will post them to http://www.regulations.gov.

FOR FURTHER INFORMATION CONTACT: Marcia O. Midgett, Government Information Specialist, Privacy Implementation Division, Office of Privacy and Disclosure, Office of the General Counsel, Social Security Administration, Room G-401 West High Rise, 6401 Security Boulevard, Baltimore, Maryland 21235-6401, telephone: (410) 966-3219, email: Marcia.O.Midgett@ssa.gov.

SUPPLEMENTARY INFORMATION: We use the Completed Determination Record—Continuing Disability Determinations SORN to cover records on allowed disability claimants on which a continuing disability issue has occurred and a decision of continuance or cessation has been approved and Title II and Title XVI disability beneficiaries who have been selected to receive a Ticket-to-Work as part of the Ticket-to-Work and Self-Sufficiency Program.

We are modifying routine use number 8 to include disclosures we make to State Vocational Rehabilitation Agencies (SVRAs). This modification will cover SVRAs who provide services to individuals who are participants in the Ticket-to-Work and Self-Sufficiency Program.

In addition, we are also updating the Policies and Practices for Storage of Records section to more accurately reflect the record storage process at SSA. Finally, we are making minor updates to the System Location section, to comply with revised OMB Circular A-108, Federal Agency Responsibilities for Review, Reporting, and Publication under the Privacy Act.

In accordance with 5 U.S.C. 552a(r), we have provided a report to OMB and Congress on this modified system of records.

Mary Zimmerman,
Acting Executive Director, Office of Privacy and Disclosure, Office of the General Counsel.

System Name and Number

Complete Determination Record—Continuing Disability Determinations, 60-0050

SECURITY CLASSIFICATION:

Unclassified.

SYSTEM LOCATION:

Social Security Administration, Deputy Commissioner of Operations, Office of Disability Determinations, 6401 Security Boulevard, Baltimore, MD 21235.

SYSTEM MANAGER(S):

Social Security Administration, Deputy Commissioner of Operations, Office of Disability Determinations, 6401 Security Boulevard, Baltimore, MD 21235, DCO.ODD@ssa.gov.

ROUTINE USES OF RECORDS MAINTAINED IN THE SYSTEM, INCLUDING CATEGORIES OF USERS AND PURPOSES OF SUCH USES:

8. To contractors for the purpose of assisting SSA in the efficient administration of the Ticket-to-Work and Self-Sufficiency Program (Ticket Program). These contractors would be limited to the Program Manager, which is directly assisting SSA in administering the Ticket Program, and to Employment Networks and State Vocational Rehabilitation Agencies, which are providing services to SSA beneficiaries under the ticket program.

POLICIES AND PRACTICES FOR STORAGE OF RECORDS:

We will maintain records in this system in paper and electronic form.

HISTORY:

71 FR 1813, January 11, 2006.

72 FR 69723, December 10, 2007.

83 FR 54969, November 1, 2018.

[FR Doc. 2019-07452 Filed 4-25-19; 8:45 am]

BILLING CODE P